NUCLEAR REGULATORY COMMISSION

[Docket No. NRC-2013-0166]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on December 27, 2013.

1. Type of submission, new, revision, or extension: Extension.

2. The title of the information collection: DOE/NRC Form 740M, “Concise Note” and NUREG/BR-0006, Revision 7, “Instructions for Completing Nuclear Material Transaction Reports, (DOE/NRC Forms 741 and 740M).”

3. Current OMB approval number: 3150-0057.

4. The form number if applicable: DOE/NRC Form 740M.

5. How often the collection is required: DOE/NRC Form 740M is requested as necessary to inform the U.S. or the International Atomic Energy Agency (IAEA) of any qualifying statement or exception to any of the data contained in other reporting forms required under the U.S.-IAEA Safeguards Agreement.

6. Who will be required or asked to report: Persons licensed to possess specified quantities of special nuclear material or source material, and licensees of facilities on the U.S. Eligible Facilities List who have been notified in writing by the NRC that they are subject to Part 75 of Title 10 of the Code of Federal Regulations (10 CFR).

7. An estimate of the number of annual responses: 150.

8. The estimated number of annual respondents: 15.

9. An estimate of the total number of hours needed annually to complete the requirement or request: 113.

10. Abstract: Licensees affected by Part 75 and related sections of parts 40, 50, 70, and 150 are required to submit DOE/NRC Form 740M to inform the U.S. or the IAEA of any qualifying statement or exception to any of the data contained in any of the other reporting forms required under the U.S.—IAEA Safeguards Agreement. The use of the Form 740M enables the NRC to collect, retrieve, analyze, and submit the data to IAEA to fulfill its reporting responsibilities.

This information collection request will also categorize this form as a common form. Once OMB approves the use of this common form, all Federal agencies using the form may request use of this common form without additional 60- or 30-day notice and comment requirements. At that point, each agency will account for its number of respondents and the burden associated with the agency's use.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by May 9, 2014. Comments received after this date will be considered if it is practical to do so, but assurance of consideration cannot be given to comments received after this date. Danielle Jones, Desk Officer, Office of Information and Regulatory Affairs (3150-0057), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 31st day of March 2014.
For the Nuclear Regulatory Commission.
Kristen Benney,
Acting NRC Clearance Officer, Office of Information Services.

[FR Doc. 2014-07878 Filed 4-8-14; 8:45 am]

BILLING CODE 7590-01-P